DEPARTMENT OF ENERGY

10 CFR Part 430

[EERE-2019-BT-TP-0021]

RIN 1904-AE75

Energy Conservation Program: Test Procedures for Consumer Products; Early Assessment Review; Faucets and Showerheads

AGENCY: Office of Energy Efficiency and Renewable Energy, Department of Energy.

ACTION: Request for information.

SUMMARY: The U.S. Department of Energy (“DOE”) is undertaking an early assessment review to determine whether to proceed with a rulemaking to amend the test procedures for faucets and showerheads. Specifically, through this request for information (“RFI”), DOE seeks comment on the applicable consensus-based test procedures for measuring the water use of faucets and showerheads and whether such industry produces results that measure water use during a representative average use cycle or period of use for faucets and showerheads, and are not unduly burdensome to conduct. DOE welcomes written comments from the public on any subject within the scope of this document (including topics not raised in this RFI) as well as the submission of data and other relevant information concerning this early assessment review.

DATES: Written comments and information are requested and will be accepted on or before October 4, 2021.

ADDRESSES: Interested persons are encouraged to submit comments using the Federal eRulemaking Portal at www.regulations.gov. Follow the instructions for submitting comments. Alternatively, interested persons may submit comments by email to the following address: FaucetShowerhead2019TP0021@ee.doe.gov. Include “Energy Conservation Program: Test Procedures for Consumer Products; Early Assessment Review; Faucets and Showerheads” and docket number EERE-2019-BT-TP-0021 and/or RIN number 1904-AE75 in the subject line of the message. Submit electronic comments in WordPerfect, Microsoft Word, PDF, or ASCII file format, and avoid the use of special characters or any form of encryption.

Although DOE has routinely accepted public comment submissions through a variety of mechanisms, including postal mail and hand delivery/courier, the Department has found it necessary to make temporary modifications to the comment submission process in light of the ongoing corona virus (COVID-19) pandemic. DOE is currently accepting only electronic submissions at this time. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

No telefacsimilies (faxes) will be accepted. For detailed instructions on submitting comments and additional information on this process, see section III of this document.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at https://www1.eere.energy.gov/buildings/appliance_standards/standards.aspx?productid=40&action=viewcurrent and https://www1.eere.energy.gov/buildings/appliance_standards/standards.aspx?productid=2&action=viewlive. The docket web page contains simple instructions on how to access all documents, including public comments, in the docket. See section III for information on how to submit comments through www.regulations.gov.

FOR FURTHER INFORMATION CONTACT: Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Ms. Amelia Whiting, U.S. Department of Energy, Office of the General Counsel, GC-33, 1000 Independence Avenue SW, Washington, DC 20585-0121. Telephone: (202) 586-2588. Email: Amelia.Whiting@hq.doe.gov.

For further information on how to submit a comment or review other public comments and the docket, contact the Appliance and Equipment Standards Program staff at (202) 287-1445 or by email: ApplianceStandardsQuestions@ee.doe.gov.

SUPPLEMENTARY INFORMATION:

Table of Contents

I. Introduction

A. Authority and Background

B. Rulemaking History

II. Request for Information

A. Scope

1. Faucets

2. Showerheads

B. Updates to Industry Standard

C. Showerhead Test Procedure

III. Submission of Comments

I. Introduction

DOE established an early assessment review process to conduct a more focused analysis that would allow DOE to determine, based on statutory criteria, whether an amended test procedure is warranted. This RFI requests information and data regarding whether amended test procedures would more accurately and fully comply with the requirement that the test procedures produce results that measure water use during a representative average use cycle or period of use for faucets and showerheads, and not be unduly burdensome to conduct. To inform interested parties and to facilitate this process, DOE has identified several issues associated with the currently applicable test procedures on which DOE is interested in receiving comment.

Based on the information received in response to the RFI and DOE's own analysis, DOE will determine whether to proceed with a rulemaking for an amended test procedure. If DOE were to make an initial determination that an amended test procedure would more accurately or fully comply with statutory requirements, or DOE's analysis were to be inconclusive, DOE would undertake a rulemaking to issue an amended the test procedure. If, however, DOE were to make an initial determination based upon available evidence that an amended test procedure would not meet the applicable statutory criteria, DOE would engage in notice and comment rulemaking before issuing a final determination that an amended test procedure is not warranted.

A. Authority and Background

The Energy Policy and Conservation Act of 1975, as amended (“EPCA”) ¹, among other things, authorizes DOE to regulate the energy efficiency or water use of a number of consumer products and industrial equipment. (42 U.S.C. 6291-6317) Title III, Part B ² of EPCA establishes the Energy Conservation Program for Consumer Products Other Than Automobiles, which sets forth a variety of provisions designed to improve energy efficiency or water use. These products include faucets and showerheads, the subjects of this RFI. (42 U.S.C. 6292(a)(15) and (16))

¹ All references to EPCA in this document refer to the statute as amended through the Energy Act of 2020, Public Law 116-260 (Dec. 27, 2020).

² For editorial reasons, upon codification in the U.S. Code, Part B was redesignated Part A.

The energy conservation program under EPCA consists essentially of four parts: (1) Testing, (2) labeling, (3) Federal energy conservation standards,³ and (4) certification and enforcement procedures. Relevant provisions of the Act specifically include definitions (42 U.S.C. 6291), energy conservation standards (42 U.S.C. 6295), test procedures (42 U.S.C. 6293), labeling provisions (42 U.S.C. 6294), and the authority to require information and reports from manufacturers. (42 U.S.C. 6296)

³ The term “energy conservation standard” includes water use standards for showerheads, faucets, water closets, and urinals. (42 U.S.C. 6291(6)(A))

Federal energy efficiency and water use requirements for covered products established under EPCA generally supersede State laws and regulations concerning energy conservation testing, labeling, and standards. (42 U.S.C. 6297) DOE may, however, grant waivers of Federal preemption for particular State laws or regulations, in accordance with the procedures and other provisions of EPCA. (42 U.S.C. 6297(d))

The Federal testing requirements consist of test procedures that manufacturers of covered products must use as the basis for: (1) Certifying to DOE that their products comply with the applicable energy conservation standards adopted pursuant to EPCA (42 U.S.C. 6295(s)), and (2) making representations about the water use of those products (42 U.S.C. 6293(c)). Similarly, DOE must use these test procedures to determine whether the products comply with relevant standards promulgated under EPCA. (42 U.S.C. 6295(s))

Under 42 U.S.C. 6293, EPCA sets forth the criteria and procedures DOE must follow when prescribing or amending test procedures for covered products. EPCA requires that any test procedures prescribed or amended under this section be reasonably designed to produce test results which measure energy efficiency, energy use, water use or estimated annual operating cost of a covered product during a representative average use cycle or period of use and not be unduly burdensome to conduct. (42 U.S.C. 6293(b)(3)) In addition, if DOE determines that a test procedure amendment is warranted, it must publish proposed test procedures and offer the public an opportunity to present oral and written comments on them. (42 U.S.C. 6293(b)(2))

EPCA directs that the test procedures for faucets and showerheads are to be the test procedures specified in American Society of Mechanical Engineers (ASME) Standard A112.18.1M-1989, “Plumbing Fixture Fittings.” (42 U.S.C. 6293(b)(7)(A)) EPCA further directs that, if the test procedure requirements of ASME A112.18.1M-1989 are revised at any time and approved by the American National Standards Institute (ANSI), DOE must amend the Federal test procedures to conform to the revised ASME standard, unless DOE determines by rule that to do so would not meet the requirements of EPCA that the test procedures be reasonably designed to produce test results which measure water use during a representative average use cycle as determined by DOE, and not be unduly burdensome to conduct. (42 U.S.C. 6293(b)(7)(B); 42 U.S.C. 6293(b)(3))

EPCA also requires that, at least once every 7 years, DOE evaluate test procedures for each type of covered product, including faucets and showerheads, to determine whether amended test procedures would more accurately or fully comply with the requirements for the test procedures to be reasonably designed to produce test results that reflect water use and estimated operating costs during a representative average use cycle or period of use and not to be unduly burdensome to conduct. (42 U.S.C. 6293(b)(1)(A)) If the Secretary determines, on his own behalf or in response to a petition by any interested person, that a test procedure should be prescribed or amended, the Secretary shall promptly publish in the Federal Register proposed test procedures and afford interested persons an opportunity to present oral and written data, views, and arguments with respect to such procedures. (42 U.S.C. 6293(b)(2)) The comment period on a proposed rule to amend a test procedure shall be at least 60 days and may not exceed 270 days. Id. In prescribing or amending a test procedure, the Secretary shall take into account such information as the Secretary determines relevant to such procedure, including technological developments relating to energy or water use or energy efficiency of the type (or class) of covered products involved. Id. If DOE determines that test procedure revisions are not appropriate, DOE must publish its determination not to amend the test procedures.

DOE's test procedures for faucets and showerheads are prescribed at 10 CFR 430.23(s) and (t), respectively, and 10 CFR part 430 subpart B appendix S (“Appendix S”). In addition, DOE regulations reiterate statutory standards for faucets and showerheads. 10 CFR 430.32(o) and (p). DOE is publishing this RFI to collect data and information to inform its decision in response to revisions to the ASME standard and pursuant to the 7-year review requirement specified in EPCA. (42 U.S.C. 6293(b)(1)(A) and 42 U.S.C. 6293(b)(7)(B))

B. Rulemaking History

DOE's current test procedures for faucets and showerheads are codified at 10 CFR 430.23(s) and (t), respectively, and Appendix S. DOE initially established test procedures for faucets and showerheads in a final rule published on March 18, 1998, which referenced ASME A112.18.1M-1989, “Plumbing Fixture Fittings,” incorporated by reference into 10 CFR part 430, then the most recent revision of that industry standard. 63 FR 13308.

DOE last amended the test procedures for faucets and showerheads on October 23, 2013 (“October 2013 Final Rule”). 78 FR 62970. In that final rule, DOE incorporated by reference ASME A112.18.1-2012, “Plumbing Supply Fixtures” as part of the test procedures for faucets and showerheads. 78 FR 62970, 62982. Since then, the 2012 version of the ASME standard was re-affirmed in 2017, and then updated in 2018 to ASME A112.18.1-2018, “Plumbing Supply Fixtures,” which is the current version of the industry standard.

On December 16, 2020, DOE published a final rule amending the definition for “showerhead” and adopted definitions for “body spray” and “safety showerhead.” 85 FR 81341 (“December 2020 Final Rule”). DOE amended the regulatory definition for “showerhead” to incorporate the definition from the most recent standard developed by ASME, such that the term means “an accessory to a supply fitting for spraying onto a bather, typically from an overhead position.” 85 FR 81341, 81342, 81359. Under the December 2020 Final Rule, DOE interpreted the term “showerhead” such that each showerhead in a product containing multiple showerheads is considered separately for purposes of determining compliance with the 2.5 gallon per minute (“gpm”) standard established in EPCA. 85 FR 81341, 81342. In the December 2020 Final Rule, DOE adopted a definition for “body spray”, such that the term means “a shower device for spraying water onto a bather from other than the overhead position. A body spray is not a showerhead.” 85 FR 81341, 81359. DOE also established a definition for “safety shower showerhead” meaning “a showerhead designed to meet the requirements of the International Equipment Safety association (“ISEA”) standard ISEA Z358.1, American National Standard for Emergency Eyewash and Shower Equipment.” Id.

On July 22, 2021, DOE published a notice of proposed rulemaking (“NOPR”) in which it proposed to withdraw the definition of “showerhead” adopted in the December 2020 Final Rule, reinstate the definition of “showerhead” from the October 2013 Final Rule, and withdraw the interpretation from the December 2020 Final Rule. 86 FR 38594 (“July 2021 NOPR”). As proposed, the term “showerhead” would be redefined as “a component or set of components distributed in commerce for attachment to a single supply fitting, for spraying water onto a bather, typically from an overhead position, excluding safety shower showerheads.” 86 FR 38594, 38607. DOE explained that it considered that water conservation is a more important purpose of EPCA than consistency with ASME (with which DOE has no statutory obligation to align its definition). 86 FR 38594, 38597. DOE also proposed to withdraw the definition of “body spray,” explaining that the definition is inconsistent with the express purpose of EPCA to conserve water and does not best address the relationship between body sprays and showerheads. 86 FR 38594, 38603. DOE did not propose any changes to the definition of “safety shower showerhead” in the July 2021 NOPR. 86 FR 38594, 38603-38604.

II. Request for Information

In the following sections, DOE has identified a variety of issues on which it seeks input to determine whether the current version of the applicable industry test procedure for faucets and showerheads would comply with the requirements in EPCA that test procedures be reasonably designed to produce test results which reflect energy and water use during a representative average use cycle or period of use, without being unduly burdensome to conduct (42 U.S.C. 6293(b)(3)).

Additionally, DOE has identified a variety of issues on which it seeks input to determine whether, and if so how, amended test procedures for faucets and showerheads would more accurately or fully comply with the requirements in EPCA that test procedures be reasonably designed to produce test results which reflect water use during a representative average use cycle or period of use, without being unduly burdensome to conduct (42 U.S.C. 6293(b)(3)).

A. Scope

1. Faucets

EPCA and DOE regulations define “faucet” as “a lavatory faucet, kitchen faucet, metering faucet, or replacement aerator for a lavatory or kitchen faucet.” (42 U.S.C. 6291(31)(E); 10 CFR 430.2. This definition defines the scope of the term by reference to the categories of faucets contained within in it (e.g., kitchen faucet), but does not define the word “faucet” as that word is used in the “faucet” definition. Both ASME A112.18.1-2012 and ASME A112.18.1-2018 define a “faucet” as a “terminal fitting”, which in turn is defined as “a device that controls and guides the flow of water.” DOE requests comment on the term “faucet” as defined in ASME A112.18.1-2018 and whether further detail is warranted for DOE's regulatory definitions.

With regards to kitchen faucets specifically, DOE's review of the market suggests that there are a variety of terminal fittings available on the market that are marketed for installation in a kitchen. Certain of these products are explicitly marketed as “kitchen faucets.” Other products marketed for installation in the kitchen are characterized in the market as “low-pressure water dispensers” and “pot fillers,” and appear to be within the scope of the statutory term “faucet.” In the following discussion, DOE describes its understanding of these products and seeks comment and information from interested parties regarding such products. Throughout this discussion, DOE uses the term “conventional kitchen faucet” to refer to products explicitly marketed as kitchen faucets and for which the current DOE test procedure and water conservation standards apply, and to distinguish from products that may also be “kitchen faucets” but that may not be within the scope of the current test procedure.

ASME A112.18.1-2018 added a definition for “low-pressure water dispenser” and defines the term as “a terminal fitting located downstream of a pressure reducing valve that dispenses drinking hot water above 71 °C (160 °F) or cold water or both at a pressure of 105 kPa (15 psi) or less.” As discussed previously, ASME A112.18.1-2018 defines faucet as “a terminal fitting”. The reference to “terminal fitting” in the industry definition of “low-pressure water dispenser” indicates that ASME A112.18.1-2018 classifies such products as a subset of faucets. DOE does not define “low-pressure water dispenser” and does not reference the term in the DOE test procedure for faucets. Based on DOE's market research, such products on the market may also be referred to as “beverage faucets,” “drinking water faucets,” or “hot/cold water dispensers”. DOE understands that the key differences between low-pressure water dispensers and conventional kitchen faucets are that low-pressure water dispensers operate at lower water pressures (by definition) and are used for the purpose of gently filling a relatively small vessel (e.g., a glass). Particularly because of the lower water pressure, such products would not be effective at certain tasks that could otherwise be performed by a conventional kitchen faucet (e.g., washing dishes) and for which the ultimate purpose is something other than to fill a relatively small vessel with water.

The DOE water conservation standard for faucets specifies that water use must be “measured at a flowing water pressure of 60 pounds per square inch [(`psi')],” 10 CFR 430.32(o). The same conditions are specified in section 5.4.2.3.1 of ASME A112.18.1-2012 (referenced at section 2.a of Appendix S). However, for testing low-pressure water dispensers, section 5.4.2.3.1 of ASME A112.18.1-2018 specifies a maximum flow for low-pressure water dispensers—i.e., 15 ± 1 psi. This specification was added to ASME A112.18.1-2018 and was not specified in ASME A112.18.1-2012, which is currently referenced in Appendix S. Accordingly, the water pressure specified in 10 CFR 430.32(o) for testing faucets does not accommodate testing low-pressure water dispensers. Therefore, although low-pressure water dispensers appear to meet the DOE definition of a faucet, there is currently no applicable DOE test procedure for testing low-pressure water dispensers.⁴

⁴ As such, the standards currently prescribed for faucets at 10 CFR 430.32(o) do not apply to low-pressure water dispensers.

Other terminal fittings used in the kitchen, such as pot fillers, may also warrant differentiation from currently regulated kitchen faucets. ASME A112.18.1-2018 does not define pot fillers, nor does the current DOE test procedure. Based on DOE's market research, the key differences between products described as “pot fillers” and conventional kitchen faucets are that pot fillers are typically installed over a range or cooktop (rather than over a sink), plumbed only to the cold water supply, and are used for the purpose of filling a large vessel (e.g., a stock pot) with a volume of water in the location where it will be heated (which avoids the need to move the pot from the sink to the stove once filled with water). In applications where a pot filler is not installed over a sink, it could only be used to fill a vessel with water, given the lack of access to a drain. Pot fillers typically have higher flow rates than conventional kitchen faucets, which allow for filling large cooking vessels in a shorter period of time than could be achieved with a regulated kitchen faucet.⁵

⁵ For example, filling a 10 gallon stock pot with a kitchen faucet would require approximately 5 minutes at a flow rate of 2.2 gpm (the current flow rate standard established for kitchen faucets). Filling the same stock pot with a pot filler instead would require approximately 2.5 minutes at a flow rate of 4 gpm (using an example flow rate for a pot filler).

For both low-pressure water dispensers and pot fillers (as DOE has described such products in this discussion), DOE understands that the primary function of such products is to fill a vessel with water (e.g., a glass or a cooking vessel). Given this function, the amount of water provided by such products during consumer use would be dependent on the volume of the vessel, independent of the flow rate of the product. As such, a test procedure that would measure the flow rate of such products would not provide meaningful information in terms of reducing the amount of water used. Moreover, establishing water conservation standards for such products in terms of a maximum flow rate (gpm) would not be expected to result in any water savings because the volume of water provided by such products would be dictated by the vessel to be filled as opposed to the flow rate. Furthermore, establishing water conservation standards could diminish the usefulness of such products by increasing the amount of time required to fill a vessel with a particular volume of water.

DOE did not consider pot fillers and low-pressure water dispensers when establishing the current test procedure and standards for faucets. As stated, EPCA directs DOE to base the Federal test procedure on ASME A112.18.1, which did not include provisions for testing low-pressure water dispensers until the latest revision (2018) and continues to not define or include provisions specific to pot fillers. In establishing the current DOE test procedure, DOE did not consider products that may be faucets but that were not subject to the statutorily referenced industry standard. Therefore, the current test procedure in Appendix S and standards at 10 CFR 430.32(o) for faucets do not apply to low-pressure water dispensers or pot fillers. To the extent that such products are not subject to the DOE test procedure, such products are also excluded from coverage under the energy conservation standards.

Issue 1: DOE requests comment on the term “faucet” as defined in ASME A112.18.1-2018 and whether further detail is warranted for DOE's regulatory definitions.

Issue 2: DOE requests comment on its understanding of “low-pressure water dispensers” and “pot fillers” as a subset of faucets, specifically kitchen faucets.

Issue 3: DOE requests comment on whether any changes should be made to DOE's definition of “faucet” to differentiate products such as low-pressure water dispensers and pot fillers from conventional “kitchen faucets.”

Issue 4: DOE requests comment on whether the Department should incorporate into the Federal regulations definitions of low-pressure water dispenser, pot filler, or any other types of products that meet the definition of a faucet. If other faucet types should be defined, DOE requests comment on specific physical (or operational, or other) characteristics that could be used to differentiate such products from currently regulated faucets.

Issue 5: DOE requests comment on whether DOE should expand the scope of its test procedures for faucets to include provisions for testing low-pressure water dispensers, pot fillers, or any other types of faucets.

Issue 6: DOE requests comment on its understanding of the primary purpose of low-pressure water dispensers and pot fillers (i.e., to fill a vessel with water), and on its assertion that establishing test procedures and water conservation standards for such products would not result in any water savings.

2. Showerheads

As previously noted, DOE regulations currently define “showerhead” as “any showerhead (including a handheld showerhead) other than a safety showerhead. DOE interprets the term `showerhead' to mean an accessory to a supply fitting for spraying water onto a bather, typically from an overhead position.” 10 CFR 430.2. Pursuant to the requirements of EPCA, DOE seeks input on any updates to the showerheads scope and definitions from the latest ASME industry standard, ASME A112.18.1-2018.

ASME A112.18.1-2018 added new definitions for “hand-held shower” and “rain shower.” ASME defines a “hand-held shower” as “a showerhead that can be held or fixed in place for spraying water onto a bather and that is connected to a flexible hose.” ASME A112.18.1-2018 defines a “rain shower” as “a showerhead designed to be mounted directly over the bather with the spray face parallel to the floor. Note: The showerhead can be mounted directly from the ceiling or on an extended shower arm.”

Currently, DOE defines the term “hand-held showerhead” as “a showerhead that can be held or fixed in place for the purpose of spraying water onto a bather and that is connected to a flexible hose.” 10 CFR 430.2. Considering that the DOE definition is almost identical to the definition in the ASME industry standard, DOE tentatively concludes that there is no reason to make any updates to this definition at this time.

While DOE's regulations do not currently define the term “rain shower”, the existing and proposed definition of “showerhead” covers rain showers. ASME A112.18.1-2018, section 5.12.3, includes a new definition for rain shower in light of the standard's new spray force requirements specific to rain showers. Considering the DOE test procedure includes a showerhead test procedure for only maximum water consumption and not spray force, DOE tentatively concludes that there is no reason to include the term and definition for rain shower at this time, and seeks comment on that tentative conclusion.

Issue 7: DOE requests comment on whether DOE should include the term “rain shower” and a definition of the term in its regulations.

Issue 8: DOE requests comment on whether any changes to current definitions related to the faucet and showerhead test procedure beyond those discussed in this RFI (other than with regard to the issues raised in the July 2021 NOPR) should be considered. DOE requests comment on the potential impact to the scope of the Federal test procedure from any changes to the definitions, should DOE incorporate them. DOE also requests comment on whether any potential changes to the definitions would impact the repeatability and reproducibility of the test procedure or the representativeness of its results.

B. Updates to Industry Standard

In addition to the revised definitions described previously, ASME A112.18.1-2018 includes the following changes in comparison to the 2012 version incorporated into 10 CFR part 430: (1) A new requirement in section 5.4.2.3.1 specifying a lower water pressure for testing low-pressure water dispensers compared to the 60 ± 1 psi water pressure used to test faucets; (2) a clarification in section 5.4.2.3.2 that “hand showers” are “hand-held” showers; and (3) updates to Table 1, including adding a low-pressure water dispenser maximum flow rate level and removing a note to refer to clause 4.11.1 for the showerhead minimum flow rate requirement.⁶ however, ASME A112.18.1-2018 specifies a lower water pressure—i.e., 105 ± 7 kPa (15 ± 1 psi).

⁶ DOE notes that ASME A112.18.1-2018 also contains several updates to specifications and test methods for commercial prerinse spray valves, which are not discussed in this RFI.

Issue 9: DOE requests comment on the maximum water use test method for low-pressure water dispensers, as detailed in section 5.4.2.3.1 of ASME A112.18.1-2018. DOE requests comment and data, if available, on the water pressure under which low-pressure water dispensers typically operate in the field, and the extent to which the specified water pressure of 105 ± 7 kPa (15 ± 1 psi) is representative of actual use.

Issue 10: DOE also welcomes detailed information on the nature and extent of any testing cost or burden that would be associated with conducting the test for low-pressure water dispensers as specified in ASME A112.18.1-2018, as compared to the current DOE test procedure.

As discussed previously, ASME A112.18.1-2018 also provides a clarification in section 5.4.2.3.2 that “hand showers” are “hand-held” showers. DOE tentatively concludes that the update in ASME A112.18.1-2018 changing the term “hand shower” to “hand-held shower” is an insignificant clarification. Finally, the updates to Table 1 regarding the maximum flow rate for low-pressure water dispensers and minimum flow rate for showerheads relate to the water conservation standards and are therefore beyond the scope of the test procedures. (DOE adopted the statutory maximum water use standards for faucets and showerheads in 10 CFR 430.32(o) and (p).)

DOE also notes that ASME A112.18.1-2018 does not contain any updates to the water consumption test method for showerheads.

C. Showerhead Test Procedure

In the December 2020 Final Rule, DOE maintained the test procedure for showerheads. DOE stated that the existing test procedure remains applicable to shower heads as defined by that final rule and that if issues arise where the existing test procedure does not produce a representative measurement of water use of a particular showerhead product, the manufacturer can seek a waiver from DOE pursuant to DOE regulations at 10 CFR 430.27. 85 FR 81341, 81351. DOE also noted that EPCA requires DOE to consider on a periodic basis whether test procedures for a covered product should be amended (under 42 U.S.C 6293). Id.

As noted, DOE has proposed to withdraw the definition of “showerhead” adopted in the December 2020 Final Rule, reinstate the definition of “showerhead” from the October 2013 Final Rule, and withdraw the interpretation from the December 2020 Final Rule. DOE also proposes to withdraw the definition of “body spray.” 86 FR 38594, 38603.

Issue 11: DOE requests comment on whether the existing test procedure for showerheads needs to be amended based on DOE's amended definition for showerhead (i.e., the definition adopted in the December 2020 Final Rule). If so, DOE requests comment on the proposed amendments in the August 2020 NOPR, or on other test methods that would produce a representative measurement of water use. DOE also requests comment on whether the existing test procedure for showerheads would need to be amended were DOE to finalize the definition of showerhead proposed in the July 2021 NOPR (i.e., the definition from the October 2013 Final Rule). If so, DOE requests comments and information on what amendments would be needed and why.

III. Submission of Comments

DOE invites all interested parties to submit in writing by October 4, 2021, comments and information on matters addressed in this notice and on other matters relevant to DOE's consideration of amended test procedures for faucets and showerheads. These comments and information will aid in the development of a test procedure NOPR for faucets and showerheads if DOE determines that amended test procedures may be appropriate for these products.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Following this instruction, persons viewing comments will see only first and last names, organization names, correspondence containing comments, and any documents submitted with the comments.

Do not submit to www.regulations.gov information for which disclosure is restricted by statute, such as trade secrets and commercial or financial information (hereinafter referred to as Confidential Business Information (CBI)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email. Comments and documents submitted via email also will be posted to www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, or other information to DOE. Faxes will not be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email two well-marked copies: One copy of the document marked confidential including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

DOE considers public participation to be a very important part of the process for developing test procedures and energy conservation standards. DOE actively encourages the participation and interaction of the public during the comment period in each stage of this process. Interactions with and between members of the public provide a balanced discussion of the issues and assist DOE in the process. Anyone who wishes to be added to the DOE mailing list to receive future notices and information about this process should contact Appliance and Equipment Standards Program staff at (202) 287-1445 or via email at ApplianceStandardsQuestions@ee.doe.gov.

Signing Authority

This document of the Department of Energy was signed on August 27, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 27, 2021.
Treena V. Garrett,
Federal Register Liaison Officer, U.S. Department of Energy.

[FR Doc. 2021-18882 Filed 9-1-21; 8:45 am]

BILLING CODE 6450-01-P